DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 19, 2001.

Interested persons are invited to submit written comments regarding the subject matter of the investigations to the Director, Division of Trade Adjustment Assistance, at the address shown below, not later than November 19, 2001.

The petitions filed in this case are available for inspection at the Office of the Director, Division of Trade Adjustment Assistance, Employment and Training Administration, U.S. Department of Labor, Room C-5311, 200 Constitution Avenue, NW., Washington, DC 20210.

Signed at Washington, DC, this 15th day of October, 2001.
Edward A. Tomchick,
Director, Division of Trade Adjustment Assistance.

Appendix
[Petitions instituted on 10/15/2001]
TA-W | Subject firm (petitioners) | Location | Date of petition | Product(s)
40,197 | Lucent Technologies/Bell (IBEW) | Oklahoma City, OK | 09/26/2001 | Telephone Switching Equipment.
40,198 | Scion Valley, Inc. (Co) | Meridian, TX | 09/03/2001 | Medical Devices.
40,199 | Washington Group, Int'l (Wrks) | Boise, ID | 09/26/2001 | Mine Copper for Equatorial.
40,200 | International Paper Co (Wrks) | Washington, GA | 09/27/2001 | Dimentional Lumber.
40,201 | Asia Perez (Co.) | New York, NY | 09/22/2001 | Men and Women Clothing Samples.
40,202 | Renaissance Woodworking (Wrks) | Brooklyn, NY | 09/28/2001 | Tables, Bases, Lamps.
40,203 | Hamrick's, Inc. (Co.) | St. Matthews, SC | 09/27/2001 | Ladies' Pants.
40,204 | Fisher-Rosemount (Wrks) | Austin, TX | 09/28/2001 | Process Control Systems, and Parts.
40,205 | Burlington Performance (Wrks) | Hurt, VA | 09/23/2001 | Textiles, Clothing.
40,206 | Fujitsu Microelectronics (Wrks) | Gresham, OR | 09/13/2001 | Semiconductors.
40,207 | Alabama River Pulp Co (Wrks) | Perdue Hill, AL | 09/23/2001 | Pulp.
40,208 | Joseph L. Ertl, Inc (Co.) | Dyersville, IA | 09/24/2001 | Farm Toys.
40,209 | Laclede Steel Co. (Co.) | Fairless Hills, PA | 09/26/2001 | Steel Bars, Semi-Finished Blooms.
40,210 | Tepro of Florida (Wrks) | Clearwater, FL | 08/23/2001 | Wirewound Resistors.
40,211 | DM II, Inc (Wrks) | New York, NY | 09/24/2001 | Ladies' Dresses.
40,212 | GE Capital/Card Service (Wrks) | Bloomington, MN | 09/06/2001 | Light Bulbs.
40,213 | Communications of Power (Co.) | Palo Alto, CA | 10/04/2001 | High Power Amplifiers.
40,214 | Inter Metro Ind. (USWA) | Wilkes Barre, PA | 09/28/2001 | Shelving and Transport Products.
40,215 | Armstrong-Hunt, Inc (Wrks) | Milton, FL | 09/26/2001 | Heat Exchangers.
40,216 | Paul Flagg Leather Co. (Co.) | Sheboygan, WI | 10/03/2001 | Tanners of Cow Hides.
40,217 | Shirts Plus II, Inc (Wrks) | Loretto, TN | 09/17/2001 | Blank Tees for Tommy Hilfiger.
40,218 | DMI Furniture, Inc. (Co.) | Huntinburg, IN | 09/21/2001 | Bedroom Furniture.
40,219 | Tyco Electronic Power (Wrks) | Mesquite, TX | 10/02/2001 | Power Supplies.
40,220 | Eagle Knit, Inc. (Co.) | Norwood, NC | 09/25/2001 | Knit Fabric.
40,221 | Olympic Mill Services (Wrks) | Lemont, IL | 09/26/2001 | Rebar Steel and Billets.
40,222 | Richmond Technology (Wrks) | Redlands, CA | 10/08/2001 | Flexible packaging.
40,223 | Supreme Machined Products (Co.) | Spring Lake, MI | 09/28/2001 | Precision Screw Machine parts.
40,224 | Munsey Products, Inc. (Co.) | Little Rock, AR | 10/01/2001 | Bakers and Broilers.
40,225 | Atotech USA, Inc. (Co.) | State College, PA | 10/04/2001 | Printed Wiring Boards.
40,226 | Columbian Rope Co. (Wrks) | Guntown, MS | 09/25/2001 | Rope Products.
40,227 | Delphi Harrison Thermal (Wrks) | Moraine, OH | 09/21/2001 | Compressors.
40,228 | Omaha Fixture Mfg (Wrks) | Omaha, NE | 10/03/2001 | Retail Clothing Store Fixtures.
40,229 | Eastwood Industrial, Inc. (Wrks) | Albemarle, NC | 10/04/2001 | Ladies' Apparel.
40,230 | B.F. Goodrich (IAMAW) | Palmyra, NY | 10/02/2001 | Seals, Rubber Goods.

[FR Doc. 01-28163 Filed 11-8-01; 8:45 am]

BILLING CODE 4510-30-M